DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Stanley G. French, Bureau of Land Management, 1387 South Vinnell Way, Boise, Idaho, 83709-1657, (208) 373-3981.

SUPPLEMENTARY INFORMATION: These surveys were executed at the request of the BLM to meet their administrative needs. The lands surveyed are:

The plat representing the dependent resurvey of a portion of the First Standard Parallel South (north boundary) and a portion of the subdivisional lines, and the subdivision of sections 2, 4, and 5, T. 7 S., R. 24 E., Boise Meridian, Idaho Group Number 1230, was accepted October 23, 2007.

The plat representing the dependent resurvey of a portion of the Second Standard Parallel South (north boundary), and a portion of the subdivisional lines, and the subdivision of section 2, T. 13 S., R. 25 E., Boise Meridian, Idaho Group Number 1235, was accepted December 5, 2007.

This survey was executed at the request of the Bureau of Indian Affairs to meet certain administrative and management purposes. The lands surveyed are: The supplemental plat prepared to show new lots in sections 33, 34, 35, and 36, T. 3 S., R. 35 E., Boise Meridian, Idaho, was accepted on December 7, 2007. The Bureau of Land Management (BLM) will file the plat of survey of the lands described below in the BLM Idaho State Office, Boise, Idaho, 30 days from the date of publication in the Federal Register. This survey was executed at the request of the Bureau of Land Management to meet their administrative needs. The plat representing the dependent resurvey of portions of the east boundary, the subdivisional lines, and the 1915-1917 left bank meanders of the Snake River, Mineral Survey Number 2693, and the subdivision of section 12, a metes-and-bounds survey of lots 17 and 18, section 12, and the survey of 2004-2007 meanders of an island in the Snake River, designated as lot 16, section 12, T. 9 S., R. 15 E., of the Boise Meridian, Idaho, Group Number 1199, was accepted on December 7, 2007.

Jeff Lee,
Acting Chief Cadastral Surveyor for Idaho.

[FR Doc. E8-818 Filed 1-16-08; 8:45 am]

BILLING CODE 4310-GG-P